NATIONAL SCIENCE FOUNDATION

Special Emphasis Panel in Electrical and Communications Systems; Notice of Meeting

In accordance with the Federal Advisory Committee Act (Pub. L. 92-463, as amended), the National Science Foundation announces the following meeting:

Name: Special Emphasis Panel in Electrical and Communications Systems (1196).

Date and Time: June 23, 2000-8:30 a.m. to 5 p.m.

Place: National Science Foundation, Room 360, 4201 Wilson Boulevard, Arlington, VA.

Type of Meeting: Closed.

Contact Persons: Dr. Kishan Baheti, Program Director, Control, Networks, and Computational Intelligence (CNCI), Division of Electrical and Communications Systems, National Science Foundations, 4201 Wilson Boulevard, Room 675, Arlington, VA 22230, Telephone: (703) 306-1339.

Purpose: To provide advice and recommendations concerning proposals submitted to NSF for financial support.

Agenda: To review and evaluate research proposals in the Control, Networks, and Computational Intelligence program as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act. Closed portions are proper under Sunshine Act exemptions cited. The CMO's signature on this Notice is the required determination.

Dated: June 5, 2000.
Karen J. York,
Committee Management Officer.

[FR Doc. 00-14588 Filed 6-8-00; 8:45 am]

BILLING CODE 7555-01-M